DEPARTMENT OF TRANSPORTATION

Surface Transportation Board

[Docket No. FD 35621]

Genesee & Wyoming Inc.—Continuance in Control Exemption—Columbus & Chattahoochee Railroad, Inc.

AGENCY: Surface Transportation Board, DOT.

ACTION: Notice of exemption.

SUMMARY: The Board is granting an exemption under 49 U.S.C. 10502, from the prior approval requirements of 49 U.S.C. 11323-25 for Genesee & Wyoming Inc. (GWI), a noncarrier, to continue in control of Columbus & Chattahoochee Railroad, Inc. (CCR), upon CCR's becoming a Class III rail carrier in a related transaction involving the lease from Norfolk Southern Railway Company (NSR), and operation of, a 25.50-mile rail line between Girard and Mahrt, Ala.,¹ subject to labor protective conditions. GWI is a holding company that directly or indirectly controls one Class II rail carrier and 59 Class III rail carriers. The NSR line that CCR will lease and operate indirectly connects with Georgia Southwestern Railroad, Inc. (GSWR), a Class III carrier controlled by GWI.

¹ See Columbus & Chattahoochee R.R.—Lease & Operation Exemption—Norfolk S. Ry., FD 35620 (STB served May 11, 2012).

DATES: This exemption will be effective on July 1, 2012. Petitions for stay must be filed by June 19, 2012. Petitions to reopen must be filed by June 25, 2012.

ADDRESSES: Send an original and 10 copies of all pleadings referring to Docket No. FD 35621, to: Surface Transportation Board, 395 E Street, SW., Washington, DC 20423-0001. In addition, send one copy of pleadings to Eric M. Hocky, Thorp Reed & Armstrong, LLP, One Commerce Square, 2005 Market Street, Suite 1000, Philadelphia, PA 19103.

FOR FURTHER INFORMATION CONTACT: Jonathon Binet, (202) 245-0368. Assistance for the hearing impaired is available through the Federal Information Relay Service (FIRS) at (800) 877-8339.

SUPPLEMENTARY INFORMATION: Additional information is contained in the Board's decision, which is available on our Web site at www.stb.dot.gov.

Decided: June 7, 2012.
By the Board, Chairman Elliott, Vice Chairman Mulvey, and Commissioner Begeman.
Derrick A. Gardner,
Clearance Clerk.

[FR Doc. 2012-14423 Filed 6-12-12; 8:45 am]

BILLING CODE 4915-01-P